DEPARTMENT OF LABOR

Agency Information Collection Activities; Submission for OMB

Review; Comment Request, Work Opportunity Tax Credit (WOTC), New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Work Opportunity Tax Credit. A copy of the proposed Information Collection Request (ICR) can be obtained by contacting the office listed below in the addressee section of this notice.

DATES: Written comments must be submitted to the office listed in the addressee section below on or before February 12, 2024.

ADDRESSES: You may submit comments by either one of the following methods:

Email: ChiefEvaluationOffice@dol.gov; Mail or Courier: Megan Lizik, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Megan Lizik by email at ChiefEvaluationOffice@dol.gov or by phone at 202-693-5911.

SUPPLEMENTARY INFORMATION:

I. Background: The Chief Evaluation Office (CEO) of the U.S. Department of Labor (DOL) intends to design and conduct an evaluation to assess the Work Opportunity Tax Credit (WOTC) program. WOTC is a provision of the Internal Revenue Code (title 26 of the U.S. Code) that provides employers a tax credit as an incentive to hire people with barriers to employment in 10 Target Groups (including veterans, recipients of certain public benefits, people with disabilities and others). DOL is responsible for certification of WOTC participant eligibility, and the Internal Revenue Service in the Department of Treasury issues the tax credits to employers. The goal of this project is to build knowledge about the effectiveness and implementation of the program. CEO, in collaboration with the Office for Workforce Investment (OWI) in the Employment and Training Administration (ETA) and with the Office of Disability Employment Policy (ODEP), seeks to better understand the Work Opportunity Tax Credit (WOTC), how it is administered amongst state workforce agencies, how it serves job seekers and employers, the effectiveness and efficiency of its current design, potential improvements in structure and operations, and potential future research in this area. This initial request pertains to an implementation evaluation of WOTC. An outcome and impact evaluation are anticipated in the future.

This Federal Register Notice provides the opportunity to comment on

1. Internet Survey of State Workforce Agency (SWA) Administrators. Surveys will be issued in the winter of 2024-2025. These surveys will address the implementation processes used by SWAs to administer the WOTC program, including recruitment of individuals and businesses, issuance of conditional certifications, processing WOTC certification requests, interactions with other involved organizations, and use of automated systems. SWAs will also be asked to provide contact information for Businesses that requested WOTC certifications, Business Representatives used by employers seeking WOTC certifications, American Job Centers and other community organizations authorized to pre-certify WOTC Target Group members, and individuals certified in WOTC Target Groups.

2. Internet Survey of Businesses and Business Representatives. Surveys will be issued in the winter of 2024-2025 to address the processes used by Businesses or their Representatives to recruit, certify and hire WOTC candidates.

3. Internet Survey of American Job Centers (AJCs) and Partner Organizations that can pre-certify the eligibility for a WOTC Target Group. This survey will address the activities that AJCs and other partner organizations (identified by SWAs) engage in to pre-certify individuals in 10 WOTC Target groups.

4. Internet Survey of WOTC-Certified Candidates. This survey will address the implementation processes experienced by the WOTC Target Group members in obtaining a WOTC certification, and their subsequent employment.

II. Desired Focus of Comments: Currently, the Department of Labor is soliciting comments concerning the above data collection for the Work Opportunity Tax Credit program. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for internet surveys of State Workforce Agencies, Businesses and Business Representatives, American Job Centers and associated partners, and WOTC-certified individuals.

Type of Review: New information collection request.

OMB Control Number: 1290-0NEW.

Affected Public: State Workforce Agency Personnel, Businesses (primarily for profit, but may include a small number of non-profits), and Individuals with WOTC certifications.

Comments submitted in response to this request will be summarized and/or included in the request for Office of Management and Budget approval of the information collection request; they will also become a matter of public record.

Estimated Annual Burden Hours
Type of instrument (form/activity) | Number of respondents | Number of responses per respondent | Total number of responses | Average burden time per response (minutes) | Estimated burden hours
Internet Survey of State Workforce Agency WOTC Administrators | 50 | 1 | 50 | 60 | 50
Internet Survey of WOTC-participating Businesses | 1,000 | 1 | 1,000 | 15 | 250
Internet survey of Business Representatives Acting on behalf of a WOTC-participating businesses | 50 | 1 | 50 | 15 | 13
Internet Survey of American Job Center/Partner Organizations that pre-certify individuals in WOTC Target Groups | 500 | 1 | 500 | 10 | 84
Internet Survey of Individuals certified in a WOTC Target Group | 1,000 | 1 | 1,000 | 15 | 250
Total | 2,600 |  | 2,600 |  | 647

Upeksha Savi Swick,
Director of Research, Employment and Training Programs, U.S. Department of Labor.

[FR Doc. 2023-27300 Filed 12-12-23; 8:45 am]

BILLING CODE 4510-HX-P